DEPARTMENT OF ENERGY

Federal Energy Regulatory Commission

Combined Notice of Filings #1

Take notice that the Commission received the following electric rate filings:

Docket Numbers: ER10-2984-028.

Applicants: Merrill Lynch Commodities, Inc.

Description: Notice of Non-Material Change in Status of Merrill Lynch Commodities, Inc.

Filed Date: 10/28/16.

Accession Number: 20161028-5251.

Comments Due: 5 p.m. ET 11/18/16.

Docket Numbers: ER12-229-001.

Applicants: ISO New England Inc.

Description: Informational Compliance Filing regarding ISO's re-examination of the currently effective Base Capacity Cost Rate of ISO New England Inc. Supplement also filed.

Filed Date: 10/28/16.

Accession Number: 20161028-5259; 20161028-5270.

Comments Due: 5 p.m. ET 11/18/16.

Docket Numbers: ER15-1499-004.

Applicants: Southwest Power Pool, Inc.

Description: Compliance filing: City of Independence 2017 Stated Rate Compliance Filing to be effective 1/1/2017.

Filed Date: 10/31/16.

Accession Number: 20161031-5084.

Comments Due: 5 p.m. ET 11/21/16.

Docket Numbers: ER16-1993-001.

Applicants: CleanChoice Energy, Inc.

Description: Notice of Change in Status of CleanChoice Energy, Inc.

Filed Date: 10/28/16.

Accession Number: 20161028-5250.

Comments Due: 5 p.m. ET 11/18/16.

Docket Numbers: ER17-210-001.

Applicants: Sabine Cogen, LP.

Description: Tariff Amendment: Amendment to Reactive Revenue Rate Schedule to be effective 11/1/2016.

Filed Date: 10/31/16.

Accession Number: 20161031-5137.

Comments Due: 5 p.m. ET 11/21/16.

Docket Numbers: ER17-210-002.

Applicants: Sabine Cogen, LP.

Description: Tariff Amendment: Further Amendment to Reactive Rate Tariff to be effective 12/1/2016.

Filed Date: 10/31/16.

Accession Number: 20161031-5148.

Comments Due: 5 p.m. ET 11/21/16.

Docket Numbers: ER17-225-000.

Applicants: San Diego Gas & Electric Company.

Description: Compliance filing: SDGEs Order Nos. 827 and 828 Compliance Filing to be effective 10/17/2016.

Filed Date: 10/28/16.

Accession Number: 20161028-5216.

Comments Due: 5 p.m. ET 11/18/16.

Docket Numbers: ER17-226-000.

Applicants: Southwest Power Pool, Inc.

Description: § 205(d) Rate Filing: 3125R3 Basin Electric Power Cooperative NITSA and NOA to be effective 10/1/2016.

Filed Date: 10/28/16.

Accession Number: 20161028-5217.

Comments Due: 5 p.m. ET 11/18/16.

Docket Numbers: ER17-227-000.

Applicants: Innovative Solar 47, LLC.

Description: Baseline eTariff Filing: Innovative Solar 47, LLC MBR Tariff to be effective 11/1/2016.

Filed Date: 10/31/16.

Accession Number: 20161031-5069.

Comments Due: 5 p.m. ET 11/21/16.

Docket Numbers: ER17-228-000.

Applicants: King Forest Industries, Inc.

Description: Baseline eTariff Filing: King Forest MBR Application to be effective 12/1/2016.

Filed Date: 10/31/16.

Accession Number: 20161031-5078.

Comments Due: 5 p.m. ET 11/21/16.

Docket Numbers: ER17-229-000.

Applicants: New England Power Pool Participants Committee.

Description: § 205(d) Rate Filing: Nov 2016 Membership Filing to be effective 10/1/2016.

Filed Date: 10/31/16.

Accession Number: 20161031-5139.

Comments Due: 5 p.m. ET 11/21/16.

Docket Numbers: ER17-230-000.

Applicants: Midcontinent Independent System Operator, Inc.

Description: § 205(d) Rate Filing: 2016-10-31_SA 2963 MidAmerican-MidAmerican GIA (J498) to be effective 11/1/2016.

Filed Date: 10/31/16.

Accession Number: 20161031-5141.

Comments Due: 5 p.m. ET 11/21/16.

Docket Numbers: ER17-231-000.

Applicants: Duke Energy Carolinas, LLC.

Description: § 205(d) Rate Filing: NCMPA1 RS No. 318 Amendment (2017) to be effective 12/31/2016.

Filed Date: 10/31/16.

Accession Number: 20161031-5143.

Comments Due: 5 p.m. ET 11/21/16.

Docket Numbers: ER17-232-000.

Applicants: Southern California Edison Company.

Description: § 205(d) Rate Filing: 2017 RSBAA Update Filing to be effective 1/1/2017.

Filed Date: 10/31/16.

Accession Number: 20161031-5144.

Comments Due: 5 p.m. ET 11/21/16.

Docket Numbers: ER17-233-000.

Applicants: Pennsylvania Electric Company.

Description: Notice of Cancellation of Pennsylvania Electric Company Rate Schedule F.P.C. No. 56.

Filed Date: 10/31/16.

Accession Number: 20161031-5149.

Comments Due: 5 p.m. ET 11/21/16.

Docket Numbers: ER17-234-000.

Applicants: Kentucky Utilities Company.

Description: § 205(d) Rate Filing: Recovery of Asset Retirement Obligation to be effective 7/1/2016.

Filed Date: 10/31/16.

Accession Number: 20161031-5150.

Comments Due: 5 p.m. ET 11/21/16.

Docket Numbers: ER17-235-000.

Applicants: NSTAR Electric Company.

Description: Initial rate filing: NSTAR-National Grid Facilities Support Agreement—Edgar Station to be effective 11/1/2016.

Filed Date: 10/31/16.

Accession Number: 20161031-5178.

Comments Due: 5 p.m. ET 11/21/16.

Docket Numbers: ER17-47-001.

Applicants: DifWind Farms LTD VI.

Description: Tariff Amendment: Supplement to MBR Application to be effective 12/7/2016.

Filed Date: 10/31/16.

Accession Number: 20161031-5136.

Comments Due: 5 p.m. ET 11/21/16.

Docket Numbers: ER17-48-001.

Applicants: Terra-Gen Mojave Windfarms, LLC.

Description: Tariff Amendment: Supplement to MBR Application to be effective 12/7/2016.

Filed Date: 10/31/16.

Accession Number: 20161031-5133.

Comments Due: 5 p.m. ET 11/21/16.

Take notice that the Commission received the following electric securities filings:

Docket Numbers: ES17-7-000.

Applicants: Mid-Atlantic Interstate Transmission, LL.

Description: Application of Mid-Atlantic Interstate Transmission, LLC for Authorization Under Section 204 of the Federal Power Act.

Filed Date: 10/28/16.

Accession Number: 20161028-5220.

Comments Due: 5 p.m. ET 11/18/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2016.
Nathaniel J. Davis, Sr.,
Deputy Secretary.

[FR Doc. 2016-26706 Filed 11-3-16; 8:45 am]

BILLING CODE 6717-01-P